DEPARTMENT OF THE INTERIOR

National Park Service

[N6827; NPS-WASO-NAGPRA-NPS0041688; PPWOCRADN0-PCU00RP14.R50000]

Notice of Inventory Completion: U.S. Army Corps of Engineers, San Francisco District, San Francisco, CA

AGENCY: National Park Service, Interior.

ACTION: Notice.

SUMMARY: In accordance with the Native American Graves Protection and Repatriation Act (NAGPRA), the U.S. Army Corps of Engineers, San Francisco District has completed an inventory of human remains and associated funerary objects and has determined that there is a cultural affiliation between the human remains and associated funerary objects and Indian Tribes or Native Hawaiian organizations in this notice.

DATES: Repatriation of the human remains and associated funerary objects in this notice may occur on or after February 6, 2026.

ADDRESSES: Send written requests for repatriation of the human remains and associated funerary objects in this notice to Ruzel Benedicto Ednalino, U.S. Army Corps of Engineers, San Francisco District, 450 Golden Gate Avenue, San Francisco, CA 94102, email ruzel.b.ednalino@usace.army.mil.

SUPPLEMENTARY INFORMATION: This notice is published as part of the National Park Service's administrative responsibilities under NAGPRA. The determinations in this notice are the sole responsibility of the U.S. Army Corps of Engineers, San Francisco District, and additional information on the determinations in this notice, including the results of consultation, can be found in its inventory or related records. The National Park Service is not responsible for the determinations in this notice.

Abstract of Information Available

Human remains representing, at least, one individual were removed from CA-MEN-405 in Mendocino County, CA. The 25 associated funerary objects are: three bone awls, two bone matting needles, two charcoal samples, one lot of faunal remains, one nail, three pestles, two chert projectile points, two obsidian projectile points, and nine chert scrapers (one has not yet been located). Site CA-MEN-405 was first identified by Franklin Fenenga in 1948 as part of the Smithsonian Institution's River Basin Surveys in preparation for construction of the Coyote Valley Dam. Adan E. Treganza from San Francisco State University conducted a salvage excavation beginning in September of 1957. Consultation with the Coyote Valley Band of Pomo Indians of California and ethnohistoric studies completed by Samuel A. Barrett indicate that CA-MEN-405 is likely associated with the Pomo village of Chodakai.

Cultural Affiliation

Based on the information available and the results of consultation, cultural affiliation is clearly identified by the information available about the human remains and associated funerary objects described in this notice.

Determinations

The U.S. Army Corps of Engineers, San Francisco District has determined that:

• The human remains described in this notice represent the physical remains of one individual of Native American ancestry.

• The 25 objects described in this notice are reasonably believed to have been placed intentionally with or near individual human remains at the time of death or later as part of the death rite or ceremony.

• There is a connection between the human remains and associated funerary objects described in this notice and the Coyote Valley Band of Pomo Indians of California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after February 6, 2026. If competing requests for repatriation are received, the U.S. Army Corps of Engineers, San Francisco District must determine the most appropriate requestor prior to repatriation. Requests for joint repatriation of the human remains and associated funerary objects are considered a single request and not competing requests. The U.S. Army Corps of Engineers, San Francisco District is responsible for sending a copy of this notice to the Indian Tribes and Native Hawaiian organizations identified in this notice and any other consulting parties.

Authority: Native American Graves Protection and Repatriation Act, 25 U.S.C. 3003, and the implementing regulations, 43 CFR 10.10.

Dated: December 18, 2025.
Melanie O'Brien,
Manager, National NAGPRA Program.

[FR Doc. 2026-00058 Filed 1-6-26; 8:45 am]

BILLING CODE 4312-52-P